DEPARTMENT OF COMMERCE

National Oceanic and Atmospheric Administration

RIN 0648-XD129

Mid-Atlantic Fishery Management Council; Public Meetings

AGENCY: National Marine Fisheries Service (NMFS), National Oceanic and Atmospheric Administration (NOAA), Commerce.

ACTION: Notice of public meetings.

SUMMARY: The Scientific and Statistical Committee (SSC) and the Tilefish Monitoring Committee of the Mid-Atlantic Fishery Management Council (Council) will hold meetings.

DATES: The SSC meeting will be held on Wednesday, March 12, from 10 a.m. until 5 p.m. and Thursday, March 13, from 8 a.m. until 2 p.m. The Tilefish Monitoring Committee will meet Wednesday, March 12, 2014 from 3 p.m. until 5 p.m.

ADDRESSES: The meetings will be held at Pier V, 711 Eastern Avenue, Baltimore, MD 21202; telephone: (410) 539-2000.

Council Address: Mid-Atlantic Fishery Management Council, 800 N. State Street, Suite 201, Dover, DE 19901; telephone: (302) 674-2331.

FOR FURTHER INFORMATION CONTACT: Christopher M. Moore, Ph.D., Executive Director, Mid-Atlantic Fishery Management Council, 800 N. State Street, Suite 201, Dover, DE 19901; telephone: (302) 526-5255.

SUPPLEMENTARY INFORMATION: Agenda items to be discussed at the SSC meeting include: 2015-17 ABC recommendations for tilefish; black sea bass research track development, report of SSC Working Group on Black Sea Bass Ad Hoc ABC Specifications, interim multi-year ABC specification metrics, Management Strategy Evaluation update, Ecosystem Approach to Fisheries Management (Climate Workshop Summary), Mid-Atlantic Council research plan development, update on Magnuson Act reauthorization and other business. The primary purpose of the Tilefish Monitoring Committee is to recommend management measures designed to achieve recommended catch limits for Tilefish.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

The meetings are physically accessible to people with disabilities. Requests for sign language interpretation or other auxiliary aids should be directed to M. Jan Saunders at the Mid-Atlantic Council Office, (302) 526-5251, at least 5 days prior to the meeting date.

Dated: February 11, 2014.
Tracey L. Thompson,
Acting Deputy Director, Office of Sustainable Fisheries, National Marine Fisheries Service.

[FR Doc. 2014-03303 Filed 2-13-14; 8:45 am]

BILLING CODE 3510-22-P